DEPARTMENT OF THE INTERIOR

Office of the Secretary

Information Quality Guidelines Pursuant to Section 515 of the Treasury and General Government Appropriations Act for Fiscal Year 2001

AGENCY: Office of the Secretary, Department of the Interior.

ACTION: Notice of Availability of Proposed Information Quality Guidelines.

SUMMARY: The U.S. Department of the Interior, is issuing these proposed Information Quality Guidelines in order to comply with the guidance published by the Office of Management and Budget in the Federal Register, Vol., 2, No. 67, dated January 2, 2002, and re-issued February 22, 2002, Vol. 67, No. 36, for implementing section 515(a) of the Treasury and General Government Appropriations Act for Fiscal Year 2001 (Public Law 106-554; H.R. 5658).

FOR FURTHER INFORMATION CONTACT: Persons interested in reviewing the proposed Information Quality Guidelines issued by the Office of the Secretary, U.S. Department of the Interior, are encouraged to contact the Office of the Chief Information Officer (Attn: Nancy Trent) 1849 C Street, NW., Mail Stop 5312, Washington, DC 20240, phone: 202-208-6051. The guidelines may also be reviewed at Web site: www.mms.gov/whatsnew.

SUPPLEMENTARY INFORMATION: The U.S. Department of the Interior, its offices, and its eight component bureaus disseminate a wide variety of information to the public regarding the Nation's Federal lands, National Parks, natural resources, geographic and spatial data, wildlife and fisheries, and Indian lands. This document is the basis for Department policy to ensure quality of information disseminated. Interested parties may submit comments not later than 30 days from the date of this notice. Bureaus and offices are directed to publish by July 1, 2002, a notice of availability of their guidelines in the Federal Register for public comment, with at least a 30-day comment period.

Dated: May 10, 2002.
P. Lynn Scarlett,
Assistant Secretary for Policy, Management and Budget.

[FR Doc. 02-13158 Filed 5-23-02; 8:45 am]

BILLING CODE 4310-RK-M